LEGAL SERVICES CORPORATION

45 CFR Part 1611

Income Level for Individuals Eligible for Assistance

AGENCY: Legal Services Corporation.

ACTION: Final rule—correction.

SUMMARY: The Legal Services Corporation (“Corporation”) is required by law to establish maximum income levels for individuals eligible for legal assistance. On January 30, 2008 the Corporation issued a document updating the specified income levels to reflect the annual amendments to the Federal Poverty Guidelines as issued by the Department of Health and Human Services. This notice corrects a typo appearing in the supplementary information, but does not affect the income levels set forth in the charts. Specifically, in the sentence in the last paragraph of the SUPPLEMENTARY INFORMATION, 73 FR 5458, Jan. 30, 2008, beginning “These charts are for references purposes * * *,” the first percentage referred to should be “125%” instead of “200%.”

DATES: Effective Date: This rule is effective as of January 30, 2008.

FOR FURTHER INFORMATION CONTACT: Mattie Cohan, Senior Assistant General Counsel, Legal Services Corporation, 3333 K St., NW., Washington, DC 20007; (202) 295-1624; mcohan@lsc.gov.

SUPPLEMENTARY INFORMATION: Section 1007(a)(2) of the Legal Services Corporation Act (“Act”), 42 U.S.C. 2996f(a)(2), requires the Corporation to establish maximum income levels for individuals eligible for legal assistance, and the Act provides that other specified factors shall be taken into account along with income.

Section 1611.3(c) of the Corporation's regulations establishes a maximum income level equivalent to one hundred and twenty-five percent (125%) of the Federal Poverty Guidelines. Since 1982, the Department of Health and Human Services has been responsible for updating and issuing the Federal Poverty Guidelines. The revised figures for 2008 are equivalent to 125% of the current Federal Poverty Guidelines as published on January 23, 2008 (73 FR 3971).

LSC published the charts listing income levels that are 200% of the Federal Poverty Guidelines at 73 FR 5458, Jan. 30, 2008. These charts are for reference purposes only as an aid to grant recipients in assessing the financial eligibility of an applicant whose income is greater than 125% of the applicable Federal Poverty Guidelines amount, but less than 200% of the applicable Federal Poverty Guidelines amount (and who may be found to be financially eligible under duly adopted exceptions to the annual income ceiling in accordance with sections 1611.3, 1611.4 and 1611.5).

Victor M. Fortuno,
Vice President for Legal Affairs, General Counsel & Corporate Secretary.

[FR Doc. E8-2427 Filed 2-12-08; 8:45 am]

BILLING CODE 7050-01-P